DEPARTMENT OF DEFENSE

Department of the Navy

[Docket ID USN-2008-0056]

Privacy Act of 1974; System of Records

AGENCY: Department of the Navy, DoD.

ACTION: Notice to Add a System of Records.

SUMMARY: The Department of Navy proposes to add a system of records to its inventory of record systems subject to the Privacy Act of 1974 (5 U.S.C. 552a), as amended.

DATES: This action will be effective on December 12, 2008 unless comments are received that would result in a contrary determination.

ADDRESSES: Send comments to the Privacy Act Officer, Department of the Navy, 2000 Navy Pentagon, Washington, DC 20350-2000.

FOR FURTHER INFORMATION CONTACT: Mrs. Miriam Brown-Lam at (202) 685-6545.

SUPPLEMENTARY INFORMATION: The Department of the Navy notices for systems of records subject to the Privacy Act of 1974 (5 U.S.C. 552a), as amended, have been published in the Federal Register and are available from the address above.

The proposed systems reports, as required by 5 U.S.C. 552a(r) of the Privacy Act of 1974, as amended, were submitted on October 21, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals”, dated February 8, 1996 (February 20, 1996, 61 FR 6427).

Dated: November 3, 2008.
Morgan E. Frazier,
Alternate OSD Federal Register Liaison Officer, Department of Defense.

NM01500-3

System name:

Advanced Skills Management (ASM) System Records.

System location:

Naval Undersea Warfare Center, Keyport, 610 Dowell Street, Keyport, WA 98345-5000.

Categories of individuals covered by the system:

Navy and Marine Corps military, government and contractor personnel.

Categories of records in the system:

Name, branch of service, rate/rank with effective date, date of birth, social security number, billet, expiration of active obligated service, duty station, driver's license information, medical exam results, job skill sets; training qualifications and certification records; training tests taken and scores, remedial training requirements, On the Job Training (OJT) record, Navy Enlisted Classification, USMC Military Occupational Specialty, subspecialty codes, and other records of educational and professional accomplishment.

Authority for maintenance of the system:

10 U.S.C. 5013, Secretary of the Navy; 10 U.S.C. 5041, Commandant Marine Corps, and E.O. 9397 (SSN).

Purpose(s):

To maintain automated records concerning training, education, and qualifications of Navy and Marine Corps military, government and contractor personnel for use by Manpower, Personnel and Training (MPT) managers.

To maintain an Electronic Training Jacket to assess individual training requirements and readiness, manage Navy and Marine Corps formal, general military and technical training, qualifications, certifications and licenses, and create short and long term training action plans for individuals. Contains master task lists, tests and evaluation modules.

To allow for the evaluation/assessment of assigned personnel training requirements and readiness, automates unit training readiness assessments, and a determination of unit readiness percentage at the unit level.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices also apply to this system.

Policies and practices for storing, retrieving, accessing, retaining, and disposing of records in the system:

Storage:

Electronic storage media.

Retrievability:

Name and Social Security Number.

Safeguards:

Access to the application is controlled by Common Access Card (CAC), Public Key Enabled for Server Side Certificate Based Authentication, using DOD PKI Server Certificates and Secure Sockets Layer (SSL) Session Encryption. Once authenticated into ASM, access to a specific database is controlled by unique user ID and password. ASM Database servers are maintained in limited access areas accessible only to authorized personnel with the appropriate level of clearance, and who are properly trained. Physical access to server rooms and buildings are controlled by approved locks. Server and database administration will be restricted to approved personnel, utilizing role-based administration of users, groups and security permissions.

Retention and disposal:

Records are destroyed one year after discontinued service.

System manager(s) and address:

Commanding Officer, Naval Undersea Warfare Center, 610 Dowell Street, Keyport, WA 98345-5000.

Notification procedure:

Individuals seeking to determine whether information about themselves is contained in this system should write to the Commanding Officer, Naval Undersea Warfare Center, 610 Dowell Street, Keyport, WA 98345-5000.

Requests should include full name, Social Security Number (SSN), and must be signed by the requesting individual.

Record access procedures:

Individuals seeking access to information about themselves contained in this system of records should contact the Commanding Officer, Naval Undersea Warfare Center, 610 Dowell Street, Keyport, WA 98345-5000.

Requests should include full name, Social Security Number (SSN), and must be signed by the requesting individual.

Contesting record procedures:

The Navy's rules for accessing records and for contesting contents and appealing initial agency determinations are published in Secretary of the Navy Instruction 5211.5, 32 CFR part 701, or may be obtained from the system manager.

Record source categories:

Individual; Training Jackets; Navy Training Management and Planning System (NTMPS); Enlisted Distribution Verification Report; Naval Aviation Logistics Command Maintenance Information System (NALCOMIS); Reserve Unit Assignment Document (RUAD); and Alpha Rosters.

Exemptions claimed for the system:

None.

[FR Doc. E8-26777 Filed 11-10-08; 8:45 am]

BILLING CODE 5001-06-P